FEDERAL COMMUNICATIONS COMMISSION

47 CFR Part 1

[GN Docket No. 09-51, WC Docket No. 07-245; FCC 15-151]

Pole Attachment Rates; Correction

AGENCY: Federal Communications Commission.

ACTION: Final rule; correction.

SUMMARY: This document replaces an erroneous effective date and corrects typographical errors in a summary of the above-captioned order that was published at 81 FR 5605.

DATES: Effective March 4, 2016.

FOR FURTHER INFORMATION CONTACT: Michael Ray, Wireline Competition Bureau, Competition Policy Division, (202) 418-0357, or send an email to michael.ray@fcc.gov.

SUPPLEMENTARY INFORMATION: This correction amends the Agency Docket Number, Effective Date, and Supplementary Information published on February 3, 2016, at 81 FR 5605, in the summary of the Federal Communication Commission's Order on Reconsideration in GN Docket No. 09-51, WC Docket No. 07-245, and FCC 15-151, adopted November 17, 2015 and released November 24, 2015.

Correction

In FR Rule Document No. 2016-01182, appearing on page 5605 in the February 3, 2016, issue of the Federal Register, make the following corrections:

1. On page 5605, in the center column, revise the Agency Docket Number to read “GN Docket No. 09-51; WC Docket No. 07-245; FCC 15-151”.

2. On page 5605, in the center column, in the DATES section, revise the effective date to read “March 4, 2016”.

3. On page 5606, in the left column, in line 18 revise “0.66 percent” to read “66 percent” and on line 19 revise “0.44 percent” to read “44 percent.”,

4. On page 5606, in paragraph 3 in the left column, in line 5, revise “0.31 percent” to read “31 percent” and in lines 6 and 7 revise “0.56 percent” to read “56 percent.”

5. On page 5608, in the left column, in line 8 revise “0.66 percent” and “.044 percent” to read “66 percent” and “44 percent,” respectively.

6. On page 5608, in the left column, in paragraph 19, in lines 7 and 8 revise “0.31 percent” and “0.56 percent” to read “31 percent” and “56 percent,” respectively.

7. On page 5613, in the left column, in paragraph 52, in lines 15 and 16 revise “0.66 percent” and “0.44 percent” to read “66 percent” and “44 percent,” respectively.

8. On page 5613, in the last two lines in the left column and first line in the center column, revise “0.31 percent” and “0.56 percent” to read “31 percent” and “56 percent,” respectively.

Federal Communications Commission.
Marlene H. Dortch,
Secretary.

[FR Doc. 2016-03081 Filed 2-16-16; 8:45 am]

BILLING CODE 6712-01-P